DEPARTMENT OF ENERGY

Federal Energy Regulatory Commission

[Docket No. EL00-79-001, et al.]

West Texas Utilities Company, et al.; Electric Rate and Corporate Filings

February 3, 2004.

The following filings have been made with the Commission. The filings are listed in ascending order within each docket classification.

1. West Texas Utilities Company

[Docket No. EL00-79-001]

Take notice that on January 26, 2003, West Texas Utilities Company tendered for filing a refund report in compliance with the Commission's Order, dated December 24, 2003, in Docket No. ER01-2658-000, et al., 105 FERC ¶61,368.

Comment Date: February 17, 2004.

2. Wisconsin Electric Power Company

[Docket No. ER98-855-003]

Take notice that on January 29, 2004, Wisconsin Electric Power Company (Wisconsin Electric) tendered for filing its triennial market-power update and an amendment to its Market Rate Power Sales and Resale Transmission Tariff to include Market Behavior Rules pursuant to the Commission's November 17, 2003, Order Adopting Market Behavior Rules in Docket Nos. EL01-118-000 and EL01-118-001.

Comment Date: February 19, 2004.

3. Indeck-Olean Limited Partnership

[Docket No. ER99-2915-001]

Take notice that on January 29, 2004, Indeck-Olean Limited Partnership (Indeck-Olean) tendered for filing: (1) An updated market power analysis in compliance with the Federal Energy Regulatory Commission's Order authorizing Indeck-Olean to engage in wholesale sales of electric power at market based rates in Docket No. ER99-2915-000; and (2) an amendment to its market-based rate tariff to adopt the Commission's new Market Behavior Rules issued in Docket Nos. EL01-118-000 and EL01-118-001 on November 17, 2003.

Comment Date: February 19, 2004.

4. Midwest Independent Transmission System Operator, Inc.

[ Docket No. ER04-106-001]

Take notice that on January 28, 2004, the Midwest Independent Transmission System Operator, Inc. (Midwest ISO) submitted for filing proposed revisions to Attachment P (List of Grandfathered Agreements) of the Midwest ISO Open Access Transmission Tariff (OATT) in compliance with the Commission's December 29, 2003, Order, 105 FERC ¶61,387 (2003). The Midwest ISO has requested an effective date of October 31, 2003, which is the same effective date as that requested by the Midwest ISO in its initial filing in these proceedings.

The Midwest ISO has also requested waiver of the service requirements set forth in 18 CFR 385.2010. The Midwest ISO states it has electronically served a copy of this filing, with attachments, upon all Midwest ISO Members, Member representatives of Transmission Owners and Non-Transmission Owners, the Midwest ISO Advisory Committee participants, as well as all State commissions within the region and in addition, the filing has been electronically posted on the Midwest ISO's Web site at www.midwestiso.org under the heading “Filings to FERC” for other interested parties in this matter. The Midwest ISO will provide hard copies to any interested parties upon request.

Comment Date: February 18, 2004.

5. Central Mississippi Generating Company, LLC

[Docket No. ER04-180-001]

Take notice that on January 28, 2004, Central Mississippi Generating Company, LLC submitted a filing to comply with the Director's Letter Order issued in Docket No. ER04-180-000 on December 30, 2003, to incorporate the Market Behavior Rules adopted by the Commission in the November 17, 2003, order in Docket Nos. EL01-118-000 and 001.

Comment Date: February 18, 2004.

6. Midwest Generation EME, LLC

[Docket No. ER04-190-001]

Take notice that on January 29, 2004, Midwest Generation EME, LLC tendered for filing certain corrections to its FERC Electric Tariff, Original Volume No. 3 for the provision of Reactive Power and Voltage Control from Generation Sources Service which was accepted by the Commission in Docket No. ER04-190-000, 106 FERC ¶61, 011.

Comment Date: February 19, 2004.

7. Kentucky Utilities Company

[Docket No. ER04-203-001]

Take notice that on January 29, 2004, Kentucky Utilities Company (KU) pursuant to section 205 of the Federal Power Act, 16 U.S.C. 824 (2000) and section 35.11 of the Federal Energy Regulatory Commission's regulations, 18 CFR 35.11, filed a Supplement to its November 18, 2003, filing of the Amendment to the Contract for Electric Service by and between Kentucky Utilities Company and the City of Providence.

Comment Date: February 19, 2004.

8. Gilroy Energy Center, LLC

[ Docket No. ER04-321-001]

Take notice that on January 28, 2004, Gilroy Energy Center, LLC (Gilroy) filed substitute rate schedule sheets to the December 22, 2003, filing in Docket No. ER04-321-000, setting forth revisions to the Amended and Restated Reliability Must-Run Agreement between Gilroy and the California Independent System Operator Corporation for calendar year 2004.

Comment Date: February 18, 2004.

9. Los Esteros Critical Energy Facility, LLC

[Docket No. ER04-323-001]

Take notice that on January 28, 2004, Los Esteros Critical Energy Facility, LLC (Los Esteros) filed substitute rate schedule sheets to the December 22, 2003, filing in Docket No. ER04-323-000, setting forth revisions to the Reliability Must-Run Agreement between Los Esteros and the California Independent System Operator Corporation for calendar year 2004.

Comment Date: February 18, 2004.

10. Creed Energy Center, LLC

[Docket No. ER04-324-001]

Take notice that on January 28, 2004, Creed Energy Center, LLC (Creed) filed substitute rate schedule sheets to the December 22, 2003, filing in Docket No. ER04-324-000, setting forth revisions to the Reliability Must-Run Agreement between Creed and the California Independent System Operator Corporation for calendar year 2004.

Comment Date: February 18, 2004.

11. Goose Haven Energy Center, LLC

[Docket No. ER04-325-001]

Take notice that on January 28, 2004, Goose Haven Energy Center, LLC (Goose Haven) filed substitute rate schedule sheets to the December 22, 2003, filing in Docket No. ER04-325-000, setting forth revisions to the Reliability Must-Run Agreement between Goose Haven and the California Independent System Operator Corporation for calendar year 2004.

Comment Date: February 18, 2004.

12. Avista Corporation

[Docket No. ER04-477-000]

Take notice that on January 28, 2004, Avista Corporation, tendered for filing with the Federal Energy Regulatory Commission pursuant to 18 CFR 35.13, the following unexecuted Service Agreements under Avista Corporation's FERC Electric Tariff Original Volume No. 10:

Bonneville Power Administration, Rate Schedule No. 307

Public Utility District No. 1 of Douglas County, Rate Schedule No. 308

Public Utility District No. 2 of Grant County, Rate Schedule No. 309

Sierra Pacific Power Company, Rate Schedule No. 310

Powerex, Rate Schedule No. 311.

Avista Corporation requests waiver of the prior notice requirements and requests an effective date of January 1, 2004.

Avista states that copies of this filing have been served upon Bonneville Power Administration, PUD No. 1 of Douglas County, PUD No. 2 of Grant County, Sierra Pacific Power Company and Powerex.

Comment Date: February 18, 2004.

13. Avista Corporation

[Docket No. ER04-479-000]

Take notice that on January 28, 2004, Avista Corporation (Avista), tendered for filing a Notice of Cancellation of Avista Electric Tariff Original Volume No. 10, Rate Schedule FERC No. 3 between Avista and Puget Sound Energy, Inc. Avista requests that the Commission grant all waivers necessary to allow the cancellation to become effective on January 1, 2004.

Avista states that copies of the filing have been served on Puget Sound Energy, Inc.

Comment Date: February 18, 2004.

14. Midwest Independent Transmission System Operator, Inc.

[Docket No. ER04-480-000]

Take notice that on January 28, 2004, the Midwest Independent Transmission System Operator, Inc. (Midwest ISO) pursuant to section 205 of the Federal Power Act and section 35.12 of the Commission's regulations, 18 CFR 35.12, submitted for filing an Interconnection and Operating Agreement among Hoosier Energy Rural Electric Cooperative, Inc., as Transmission Owner, the Midwest ISO and Project Developers, Hoosier Energy Rural Electric Cooperative, Inc. and Wabash Valley Power Association, Inc.

Midwest ISO states that a copy of this filing was served on all parties.

Comment Date: February 18, 2004.

15. American Transmission Company LLC

[ Docket No. ER04-487-000]

Take notice that on January 28, 2004, American Transmission Company LLC (ATCLLC) tendered for filing a Distribution-Transmission Interconnection Agreement between ATCLLC and Gladstone Power & Light. ATCLLC requests an effective date of December 31, 2003.

Comment Date: February 18, 2004.

16. Midwest Independent Transmission System Operator, Inc.

[Docket No. ER04-491-000]

Take notice that on January 29, 2004, pursuant to section 205 of the Federal Power Act and section 35.12 of the Commission's regulations, 18 CFR 35.12 (2002), the Midwest Independent Transmission System Operator, Inc. (Midwest ISO) submitted for filing an Interconnection and Operating Agreement among Louisville Gas & Electric Company and Kentucky Utilities, the Midwest ISO and Louisville Gas & Electric Company.

Midwest ISO states that a copy of this filing was served on all parties.

Comment Date: February 19, 2004.

17. Consumers Energy Company

[Docket No. ER04-492-000]

Take notice that on January 29, 2004, Consumers Energy Company (Consumers) tendered for filing Original Sheet Nos. 25 and 26 as part of its First Revised Rate Schedule No. 116, to add the Midwest Independent Transmission System Operator, Inc., as a customer.

Comment Date: February 19, 2004.

18. Indeck-Oswego Limited Partnership

[Docket No. ER04-493-000]

Take notice that on January 29, 2004, Indeck-Oswego Limited Partnership tendered for filing a revised market-based rate tariff in order to participate in other organized markets besides the New York Independent System Operator's market.

Comment Date: February 19, 2004.

19. Caithness VG Wind, LLC

[Docket No. ER04-494-000]

Take notice that on January 29, 2004, Caithness VG Wind, LLC tendered for filing a notice of succession and revised rate schedules in the above-referenced docket.

Comment Date: February 19, 2004.

20. Idaho Power Company

[Docket No. ER04-495-000]

Take notice that on January 29, 2004, Idaho Power Company tendered for filing Service Agreement No. 174 under its Open Access Transmission Tariff.

Comment Date: February 19, 2004.

21. Caithness 251 Wind, LLC

[Docket No. ER04-496-000]

Take notice that on January 29, 2004, Caithness 251 Wind, LLC tendered for filing a notice of succession and revised rate schedules in the above-referenced docket.

Comment Date: February 19, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-221 Filed 2-9-04;8:45 am]

BILLING CODE 6717-01-P